DEPARTMENT OF HOUSING AND URBAN DEVELOPMENT

[Docket No. FR-5604-C-08]

Notice of Proposed Information Collection for Public Comment; Continuum of Care Homeless Assistance Grant Application—Continuum of Care Application

AGENCY: Office of Assistant Secretary for Community Planning and Development.

ACTION: Correction, notice.

SUMMARY: On May 9, 2012, at 77 FR 27243, HUD published a proposed information collection for public comment entitled Continuum of Care of Homeless Assistance Grant Application- Continuum of Care Application. The comment due date should be 60 days after publication in the Federal Register instead of 7 day comment due date.

DATES: Comment Due Date: July 9, 2012.

FOR FURTHER INFORMATION CONTACT: Ann Marie Oliva, Director, Office of Special Needs Assistance Programs, Office of Community Planning and Development, Department of Housing and Urban Development, 451 7th Street SW., Room 7262, Washington, DC 20410; telephone (202) 708-1590 (This is not a toll-free number).

Dated: May 29, 2012.
Clifford D. Taffet,
General Deputy Assistant Secretary for Community Planning and Development.

[FR Doc. 2012-13594 Filed 6-4-12; 8:45 am]

BILLING CODE 4210-67-P